DELAWARE RIVER BASIN COMMISSION

Notice of Proposed Rulemaking; Proposed Amendment to the Delaware River Basin Commission's Water Code and Comprehensive Plan To Establish Water Usage Reporting Requirements

AGENCY: Delaware River Basin Commission.

SUMMARY: The Delaware River Basin Commission (“Commission”) will hold a public hearing to receive comments on proposed amendments to its Water Code and Comprehensive Plan to establish water usage reporting requirements for source water withdrawals and water service. The Commission established source metering, recording, and reporting requirements in 1986 for withdrawals of surface or ground water in excess of an average of 100,000 gallons per day over a 30-day period, but it did not specify the types of information to be reported. The Commission established service metering and recording requirements in 1987 for purveyors meeting the same volume threshold, but it did not require them to report service by use category. Thus, key pieces of information are missing and reported data are inconsistent among the states, impeding the Commission's ability to perform critical water use analyses. The Commission now proposes to amend its regulations to institute reporting requirements that ensure it has the source and service information needed to evaluate how and where water is being used in the basin. Much of the data proposed to be collected already are being collected by the states. The proposed amendment addresses the existing data gaps and will greatly facilitate the Commission's water use evaluations.

The existing regulations (DRBC Water Code Sections 2.50.1 and 2.50.2), the proposed amendment (proposed Water Code Section 2.50.3), and supplemental information are posted on the Delaware River Basin Commission web site at http://www.drbc.net.

Dates: The public hearing will be held on Tuesday, January 9, 2001 during the Commission's regular business meeting. The meeting will begin at 1:00 p.m. and continue until all those present who wish to testify are afforded an opportunity to do so. Persons wishing to testify at the hearing are asked to register in advance with the Commission Secretary.

The deadline for submission of written comments will be December 20, 2000.

ADDRESSES: The public hearing will be held at the Sykes Student Union, Rosedale Avenue, West Chester University, West Chester, Pennsylvania. Directions to that location will be posted on the Commission's web site, http://www.drbc.net, in December 2000. Written comments should be submitted to Pamela M. Bush, Delaware River Basin Commission, P.O. Box 7360, West Trenton, NJ 08628-0360.

For Further Information: Please contact Esther Siskind at 609-883-9500 ext. 202 with questions about the proposed amendment, and Pamela M. Bush at ext. 203 with questions about the rulemaking process.

Dated: November 22, 2000.
Pamela M. Bush,
Commission Secretary.

[FR Doc. 00-30401 Filed 11-28-00; 8:45 am]

BILLING CODE 6360-01-P